DEPARTMENT OF HEALTH AND HUMAN SERVICES

Health Care Financing Administration

Statement of Organization, Functions, and Delegations of Authority

Part F of the Statement of Organization, Functions, and Delegations of Authority for the Department of Health and Human Services, Health Care Financing Administration (HCFA), (Federal Register, Vol. 62, No. 129, pp. 36294 and 36295, dated Monday, July 7, 1997) is amended to reflect the elimination of the Chief of Operations. This amendment will change the reporting relationships for the Offices of Internal Customer Support, Information Services, and Financial Management, which will now report directly to the Administrator, HCFA.

The specific amendment to Part F is described below:

Section F.10.A.5. (Organization) is amended to read as follows:

1. Press Office (FAE)

2. Office of Legislation (FAF)

3. Office of Equal Opportunity and Civil Rights (FA)

4. Office of Strategic Planning (FAK)

5. Office of Communications and Operations Support (FAL)

6. Office of Clinical Standards and Quality (FAM)

7. Center for Beneficiary Services (FAQ)

8. Center of Health Plans and Providers (FAR)

9. Center for Medicaid and State Operations (FAS)

10. Consortium #1 (FAU)

11. Consortium #2 (FAV)

12. Consortium #3 (FAW)

13. Consortium #4 (FAX)

14. Office of Internal Customer Support (FBA)

15. Office of Information Services (FBB)

16. Office of Financial Management (FBC)

Dated: June 8, 2000.
Nancy-Ann Min DeParle,
Administrator, Health Care Financing Administration.

[FR Doc. 00-17810 Filed 7-13-00; 8:45 am]

BILLING CODE 4120-03-P